DEPARTMENT OF THE INTERIOR

National Park Service

[NPS-WASO-NRNHL-DTS#-31483; PPWOCRADI0, PCU00RP14.R50000]

National Register of Historic Places; Notification of Pending Nominations and Related Actions

AGENCY: National Park Service, Interior.

ACTION: Notice.

SUMMARY: The National Park Service is soliciting electronic comments on the significance of properties nominated before February 6, 2021, for listing or related actions in the National Register of Historic Places.

DATES: Comments should be submitted electronically by March 4, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before February 6, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

CALIFORNIA

Los Angeles County

Hotel Mayfair, 1256 West 7th St., Los Angeles, SG100006295

Orange County

Griffith, Edward and America, House, 40 North La Senda Dr., Laguna Beach, SG100006296

COLORADO

Park County

Spring House-Moynahan House, 53 South Pine St., Alma, SG100006292

CONNECTICUT

New London County

Edward Bloom Silk Company Factory, 90 Garfield Ave., New London, SG100006266

KENTUCKY

Boyle County

Marshall-Wallace House, (Boyle MPS), 350 Harberson Ln., Danville, MP100006268

Rowan County

Downtown Morehead Historic District, Roughly bounded by South Hargis Ave., West 1st, East 1st, Bridge, East Main, and East 2nd Sts., North Wilson Ave., and West Main St., Morehead, SG100006264

OHIO

Cuyahoga County

Clifton Park South Historic District, Portions of Clifton, Forest, and Lake Rds., Captain's Cove and West Clifton Blvd., Lakewood, SG100006265

Summit County

Roach, Moses and Minerva, House,9044 Church St., Twinsburg, SG100006293

Vinton County

Moonville Tunnel, Hope-Moonville Rd., 2 mi. southwest of Lake Hope State Park, Zaleski vicinity, SG100006291

RHODE ISLAND

Providence County

Plymouth Congregational Church, 1014 Broad St., Providence, SG100006299

WISCONSIN

Brown County

Robinson Hill Historic District, South Jackson and South Van Buren Sts., generally bounded by Catherine St. and Allouiez Terr., Allouez, SG100006285

Dane County

Gray, Philip H. and Margaret, House, 6115 North Highlands Ave., Madison, SG100006286

La Crosse County

Holy Trinity School, 1417 13th St. South,La Crosse, SG100006283

Milwaukee County

Milwaukee Journal Complex, 333 West State St., 918 Vel R. Phillips Ave., Milwaukee, SG100006270

Trempealeau County

East Arcadia Roller Mill, W25818 Mill Rd., Arcadia, SG100006294

WYOMING

Platte County

Wheatland Downtown Historic District, 9th St. from Walnut to Water Sts., and Gilchrist St. from 8th to 9th Sts., Wheatland, SG100006269

An owner objection was received for the following resource:

CALIFORNIA

Orange County

Stuft Shirt, 2241 West Coast Hwy., Newport Beach, SG100006297

Nominations submitted by Federal Preservation Officers:

The State Historic Preservation Officer reviewed the following nominations and responded to the Federal Preservation Officer within 45 days of receipt of the nominations and supports listing the properties in the National Register of Historic Places.

CALIFORNIA

Los Angeles County

Federal Building, 300 North Los Angeles St., Los Angeles, SG100006288

INDIANA

Marion County

Federal Building, 575 North Pennsylvania St., Indianapolis, SG100006289

NEBRASKA

Saunders County

Camp Ashland Memorial Hall, 220 Cty. Rd. A, Ashland, SG100006287

NEVADA

Washoe County

Federal Building and U.S. Courthouse, 300 Booth St., Reno, SG100006290

Authority: Section 60.13 of 36 CFR part 60.

Dated: February 9, 2021.
Sherry Frear,
Chief, National Register of Historic Places/National Historic Landmarks Program.

[FR Doc. 2021-03123 Filed 2-16-21; 8:45 am]

BILLING CODE 4312-52-P